DEPARTMENT OF ENERGY

Annual Public Meeting of the Interagency Steering Committee on Multimedia Environmental Modeling

AGENCY: Office of Environmental Management, Department of Energy.

ACTION: Notice of meeting.

SUMMARY: The annual public meeting of the Federal Interagency Steering Committee on Multimedia Environmental Modeling (ISCMEM) will convene to discuss the latest developments in environmental modeling applications, tools and frameworks as well as new operational initiatives for FY 2014 among the participating agencies. The meeting will be hosted by the U.S. Nuclear Regulatory Commission (U.S. NRC), one of the participants in the ISCMEM, at its Research Offices at 21 Church Street, Rockville, MD 20850 adjacent to the Rockville METRO Station. The meeting is open to the public and all interested parties may attend.

DATES: October 22, 2013, from 8:30 a.m. to 5:30 p.m., Eastern Standard Time (EST) and October 23, 2013, from 8:30 a.m. to noon, EST.

ADDRESSES: U.S. Nuclear Regulatory Commission, Church Street Building, Room 6-B1, 21 Church Street, Rockville, MD, 20850.

FOR FURTHER INFORMATION CONTACT: Pre-registration may be accomplished through the ISCMEM public Web site: http://iemhub.org/topics/iscmem. Instructions for registration through the Web site may be requested by email to Whelan.Gene@epamail.epa.gov. Other inquiries and notice of intent to attend the meeting may be emailed to: Dr. Ming Zhu, ISCMEM Chair, U.S. Department of Energy, Office of Environmental Management, 1000 Independence Ave. SW., Washington, DC 20585, Tel 301-903-9240, Ming.Zhu@em.doe.gov.

SUPPLEMENTARY INFORMATION: Background: In 2001, six Federal agencies began formal cooperation under a Memorandum of Understanding (MOU) on the research and development of multimedia (i.e. air, soil, water) environmental models. This MOU established the Federal Interagency Steering Committee on Multimedia Environmental Modeling (ISCMEM). The MOU was revised and renewed in 2006 and again in 2011. The MOU establishes a framework for facilitating cooperation and coordination among research organizations in the participating agencies. So far, seven agencies have signed the current renewal of the MOU: The U.S. Army Corps of Engineers (Engineer Research and Development Center); the U.S. Department of Agriculture (National Resources Conservation Service); the U.S. Department of Energy (Office of Environmental Management); the U.S. Department of the Interior (U.S. Geological Survey); the U.S. Environmental Protection Agency (Office of Research and Development); the U.S. National Science Foundation (Geosciences Directorate); and the U.S. Nuclear Regulatory Commission (Office of Nuclear Regulatory Research). Other agencies are considering signing the revised MOU.

In ISCMEM, agencies cooperate and coordinate in research and development of all aspects of multimedia environmental modeling. This includes development and enhancements of software, databases, and interoperability, and applications and assessment of site specific, generic, and process-oriented multimedia environmental models as they pertain to human and environmental health risk assessment. Multimedia environmental model development and simulation supports interagency interests in risk assessment, uncertainty analyses, management of geologic, hydrologic, atmospheric, terrestrial, and ecological resources, and decision making. The theme of this year's annual public meeting is “How environmental modeling plays a role in decision making”. The topics to be discussed focus on: (1) Citizen science, crowd sourcing, and social media; (2) environmental evaluation and remediation; (3) energy/water nexus; (4) climate change; and (5) water resources management.

Purpose of the Public Meeting: The annual public meeting provides an opportunity for the scientific community, ISCMEM members and other Federal and State agencies, and the public to discuss ISCMEM activities and their initiatives for the upcoming year, and to discuss technological advancements in multimedia environmental modeling.

Proposed Agenda: The ISCMEM Chair will open the meeting with a brief overview of the goals of the MOU and an update on current activities and future plans of ISCMEM. This introduction will be followed by a series of invited technical presentations for the remainder of the first day, focusing on topics of mutual interest to ISCMEM participants. The steering committee will hold an open business session on the morning of the second day. A detailed agenda with presentation titles and speakers will be posted on the ISCMEM public Web site: http://iemhub.org/topics/iscmem. The agenda and instructions for registration will also be available through the list of public meetings on the US Nuclear Regulatory Commission Web site at http://www.nrc.gov/public-involve/public-meetings.html.

Meeting Access: The meeting location at the U.S. NRC is located at 21 Church Street, Rockville, MD, 20850 in Room 6-B1, adjacent to the Rockville METRO station. Directions to the U.S. NRC's Research Offices can be found on its Web site at http://www.nrc.gov/about-nrc/locations/hq.html. Limited pay parking is available below the building. The meeting facility is wheel-chair accessible. Please allow time to register with U.S. NRC security on the sixth floor and bring two photo IDs. Direct access to the meeting room is on the same level as the visitor security check-in. Please pre-register through the Web site listed above under FOR FURTHER INFORMATION CONTACT.

Ming Zhu,
Chair, Federal Interagency Steering, Committee on Multimedia Environmental Modeling.

[FR Doc. 2013-23603 Filed 9-26-13; 8:45 am]

BILLING CODE 6450-01-P